DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of September 19, 2016 through December 16, 2016.

In order for an affirmative determination to be made for workers of a primary firm and a certification issued regarding eligibility to apply for worker adjustment assistance, each of the group eligibility requirements of Section 222(a) of the Act must be met.

I. Under Section 222(a)(2)(A), the following must be satisfied:

(1) a significant number or proportion of the workers in such workers' firm have become totally or partially separated, or are threatened to become totally or partially separated;

(2) the sales or production, or both, of such firm have decreased absolutely; and

(3) One of the following must be satisfied:

(A) imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) a significant number or proportion of the workers in such workers' firm have become totally or partially separated, or are threatened to become totally or partially separated;

(2) One of the following must be satisfied:

(A) there has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
90,008 | ATOS IT Solutions and Services, Inc., NSC Global | Purchase, NY | January 1, 2014.
90,163 | Donaldson Company, Inc | Grinnell, IA | January 1, 2014.
91,130 | Trinseo LLC | Gales Ferry, CT | November 10, 2014.
91,302 | Pacific Recycling, Inc | Eugene, OR | January 7, 2015.
91,457 | Allegheny Ludlum, LLC, ATI Flat Rolled Products, Houston Operation, etc | Houston, PA | February 10, 2015.
91,509 | Rodney Hunt-Fontaine, Inc., Rodney Hunt Company, GA Industries Holdings, Zurn Industries, etc | Orange, MA | February 24, 2015.
91,559 | Halliburton Energy Services, Inc., Manufacturing—100 East Halliburton Boulevard | Duncan, OK | August 2, 2015.
91,559A | Halliburton Energy Services, Inc., Finance—1700 South Highway 81 | Duncan, OK | March 7, 2015.
91,559B | Halliburton Energy Services, Inc., Plant 2/Test Center—109 South 13th Street | Duncan, OK | March 7, 2015.
91,559C | Halliburton Energy Services, Inc., Administration—1015 West Bois D'Arc | Duncan, OK | March 7, 2015.
91,559D | Halliburton Energy Services, Inc., Field Services Office—2015 East Bois D'Arc | Duncan, OK | March 7, 2015.
91,562 | Halliburton Energy Services, Inc., Technology | Duncan, OK | March 7, 2015.
91,607 | Learjet, Inc., Bombardier, Inc., ASPI, Aerotek, Choson Resources, DACA International, etc | Wichita, KS | May 7, 2016.
91,616 | Mary's River Lumber Company, Selectemp Employment Services, All Star, LLC, Express Services, Inc., etc | Corvallis, OR | March 21, 2015.
91,616A | Mary's River Lumber Company, Selectemp Employment Services, All Star, LLC, Express Services, Inc., etc | Montesano, WA | March 21, 2015.
91,751 | CDR Manufacturing, Inc., KeyTronic Corporation | Harrodsburg, KY | April 27, 2015.
91,815 | Verizon Business Network Services, Inc., Client Services Management Organization | Rochester, NY | May 13, 2015.
91,815A | Verizon Business Network Services, Inc., Customer Service Management Organization | Cary, NC | May 13, 2015.
91,912 | Twin Rivers Paper Company LLC, Twin Rivers Paper Company Corp | Madawaska, ME | June 10, 2015.
91,931 | Cascade Auto Recycling | Grants Pass, OR | June 16, 2015.
91,988 | Paccar Winch, Paccar, Inc | Broken Arrow, OK | July 6, 2015.
91,988A | Paccar Winch, Paccar, Inc | Okmulgee, OK | July 6, 2015.
92,030 | BlueScope Buildings North America Inc., BlueScope, Supply Chain Group | Kansas City, MO | July 19, 2015.
92,032 | Ralph Lauren Corporation, Pattern/Technical Design Division, 24Seven, Inc | New York, NY | July 19, 2015.
92,048 | SandRidge Operating Company, SandRidge Energy, Inc | Oklahoma City, OK | July 22, 2015.
92,057 | Chemours, Chemours Company, FC, LLC, AECOM, KBR, Gaines Electrical, Danforth, etc | Niagara Falls, NY | July 8, 2015.
92,059 | Fused Solutions, LLC | Potsdam, NY | July 26, 2015.
92,061 | United States Steel Corporation, Fairfield Works—Flatroll Operations | Fairfield, AL | July 3, 2016.
92,061A | Fairfield Tubular Operations, United States Steel Corporation | Fairfield, AL | July 3, 2016.
92,137 | Weyerhaeuser NR Company, Wood Products Division, Weyerhaeuser Company, LC Staffing Services, etc | Columbia Falls, MT | August 23, 2015.
92,150 | Fibrant, LLC, Augusta Holdco Inc., DSM Chemicals North America, Austin Industrial, etc | Augusta, GA | August 26, 2015.
92,160 | Insight Optical Manufacturing Company of Florida Inc., Aranon Corporation Division, GrandVision USA Retail Holding Corporation | Hialeah, FL | August 25, 2015.
92,191 | East Moline Products Company | East Moline, IL | September 8, 2015.
92,216 | Norton Industries, Inc., Labor Ready | Hayward, CA | September 15, 2015.
92,224 | AAH Acquisition, LLC, All-American Hose, LLC, FEIN 27-2407790 | Union City, PA | September 16, 2015.
92,224A | AAH Acquisition, LLC, All-American Hose, LLC, FEIN 27-2407790 | Erie, PA | September 16, 2015.
92,242 | Masco Cabinetry LLC, Aerotek, Kelly Services, Regal Staffing, Manpower | Duncanville, TX | September 23, 2015.
92,255 | Neenah Northeast, LLC, f/k/a FiberMark LLC, Global Employment Solution | Reading, PA | September 16, 2015.
92,261 | SMC Electrical Products, Inc., Becker Global-America, Inc., Manpower Services | Huntington, WV | September 26, 2015.
92,267 | Rainbow Play Systems, Inc | Brookings, SD | September 29, 2015.
92,270 | JAC Operations, Inc. & Johnstown America, LLC, FreightCar America, Inc., Parts Business Unit | Johnstown, PA | September 30, 2015.
92,311 | KEMET Foil Manufacturing, LLC, KEMET Electronics Company | Knoxville, TN | October 6, 2015.
92,362 | Gibbstown CO2/Dry Ice, Airgas, Inc | Gibbstown, NJ | October 25, 2015.
92,388 | Westinghouse Air Brake Technologies Incorporated, Wabtec, Volt Workforce Solutions, Staffmark, Adecco, Manpower | Wilmerding, PA | November 2, 2015.

The following certifications have been issued. The requirements of Section 222(a)(2)(B) (shift in production or services) of the Trade Act have been met.

TA-W No. | Subject firm | Location | Impact date
90,275 | Societe Generale/New Edge, A/K/A SG Americas Securities, LLC, Operations Division, R&P, etc | Chicago, IL | January 1, 2014.
90,316 | Keurig Green Mountain, Inc., Blacktree Technical Group, Manpower, Randstad Staffing, etc | Waterbury, VT | January 1, 2014.
90,316A | Keurig Green Mountain, Inc., Information Technology Division | South Burlington, VT | January 1, 2014.
91,121 | REC Silicon LLC, Renewable Energy Corporation SAS, Rec Solar Grade Silicon LLC, etc | Moses Lake, WA | March 23, 2015.
91,121A | REC Silicon ASA, Rec Solar Grade Silicon LLC, Rec Advanced Silicon Materials | Silver Bow, MT | March 23, 2015.
91,121B | Nemo IT Solutions, REC Silicon LLC, Renewable Energy, Corporation ASA | Moses Lake, WA | November 4, 2014.
91,121C | Spherion Staffing LLC, REC Silicon ASA, REC Solar Grade Silicon LLC | Silver Bow, MT | November 4, 2014.
91,299 | Mekra Lang North America, LLC, Resource MFG | Ridgeway, SC | January 6, 2015.
91,641 | General Electric Company, GE Capacitor and Power Quality Products, Energy Connections Division | Fort Edward, NY | May 30, 2016.
91,761 | Agility Logistics Corporation, U.S. Irvine Corporate Office, Agility Holdings, Inc., AM Solutions Group | Irvine, CA | April 29, 2015.
91,768 | Accuri Cytometers, Inc., Becton, Dickinson and Company, Spectraforce Technologies Inc., etc | Ann Arbor, MI | April 26, 2015.
91,820 | Verizon Business Network Services, Inc., Verizon Global Conferencing Operations | Cary, NC | May 17, 2015.
91,904 | Nielsen, A.C. Nielsen Company, LLC, Adecco, Insight Global, Veredus, etc | Oldsmar, FL | June 9, 2015.
91,907 | John Deere Davenport Works, Construction and Forestry Division, Deere & Company | Davenport, IA | June 10, 2015.
91,908 | John Deere Dubuque Works, Construction and Forestry Division, Deere and Company | Dubuque, IA | June 10, 2015.
91,930 | IBM Cloud, Tivoli Network Management Quality Assurance & ID, IBM | Colorado Springs, CO | June 15, 2015.
91,936 | REA Magnet Wire Company, Inc., Staffmark | Osceola, AR | June 17, 2015.
91,978 | Caterpillar, Inc. | Thomasville, GA | July 1, 2015.
92,008 | PAREXEL International, PAREXEL Informatics Business Unit | Billerica, MA | July 11, 2015.
92,011 | GateHouse Media, Circulation Customer Service Department | Boston, MA | July 11, 2015.
92,023 | Alcatel-Lucent USA, Inc., Nokia Solutions and Networks US LLC | Naperville, IL | July 18, 2015.
92,045 | CH2M, Inc., CH2M HILL Companies Ltd., Division of Finance and Accounting | Portland, OR | July 21, 2015.
92,052 | McDonald's Corporation, Global Shared Services—Finance & Accounting Division, etc | Columbus, OH | July 25, 2015.
92,052A | McDonald's Corporation, Global Shared Services—Finance & Accounting Division, etc | Oak Brook, IL | July 25, 2015.
92,054 | Boston Scientific Corporation, United States Information Technology, Talent Choice | Arden Hills, MN | July 6, 2015.
92,054A | Boston Scientific Corporation, United States Information Technology | Marlborough, MA | July 6, 2015.
92,060 | Micron Technology, Inc | Manassas, VA | December 4, 2015.
92,062 | Word and Brown Insurance Administrators, Inc., Information Technology Support Services Division, 4th Source, etc | Orange, CA | July 26, 2015.
92,065 | Rane Corporation | Mukilteo, WA | July 14, 2015.
92,066 | Kraft Heinz Company, Kelly Services | Pittsburgh, PA | July 27, 2015.
92,072 | General Products Corporation, Quality Personnel, Aerotek, Inc., and Express Services, Inc | Russellville, KY | July 28, 2015.
92,073 | Citibank, N.A., CSS HR Shared Services Division, Citigroup Technology, Inc., etc | Hartford, CT | July 28, 2015.
92,074 | Abbott Laboratories, Abbott Vascular, TapFin | Temecula, CA | October 30, 2015.
92,089 | Precor Incorporated, Amer Sports, Aerotek and Kelly Services | Woodinville, WA | August 3, 2015.
92,094 | C3i, Healthcare Connections, Telerx Marketing, Inc., Teksystems, One Source, Judge Group, Synerfac, etc | Pittston, PA | August 5, 2015.
92,100 | Micron Technology, Inc., 8000 S. Federal Way | Boise, ID | December 4, 2015.
92,100A | Manpower US Inc., Bledsoe Construction Inc., NSTAR Global Services Inc., Flextechs, LLC, Experis US Inc., YMC Inc., Nanometrics Inc., etc | Boise, ID | August 9, 2015.
92,104 | Shade Structures, Inc., PlayPower, Inc., Fabric Sewing Division, Pridestaff Staffing, etc | Dallas, TX | August 10, 2015.
92,108 | Kennametal Inc | Chilhowie, VA | August 11, 2015.
92,110 | ClubCorp Financial Management Company, IT Department, ClubCorp USA, Inc | Dallas, TX | August 12, 2015.
92,117 | Washburn Graphics, Inc., WestRock, Remedy Intelligent Staffing | Jacksonville, FL | August 17, 2015.
92,119 | Bergstrom Inc., Joliet Cabs Division, Medium Wheel Loader Group, First Staff Services, etc | Joliet, IL | August 17, 2015.
92,122 | Manitowoc FSG Operations, Manitowoc Foodservice, Inc | Sellersburg, IN | August 18, 2015.
92,123 | Bayer Cropscience LP, Thiodicarb Unit, Belcan Corp., CDI Engineering Group, etc | Institute, WV | August 18, 2015.
92,132 | Carrier Corporation, United Technologies Corporation, Aerotek and Robert Half | Indianapolis, IN | August 18, 2015.
92,133 | Lego Systems, Inc., Human Resources Operations, Finance, Lego Brand Retail Inc., Lego A/S | Enfield, CT | August 4, 2015.
92,135 | International Business Machines Corporation (IBM), Strategic Outsourcing, Distribution, Technical Support Services (TSS), etc | Boulder, CO | August 23, 2015.
92,140 | Bryant Rubber Corp., Kimco | Harbor City, CA | August 24, 2015.
92,141 | TE Connectivity, Kelly Services and Aerotek, Inc | Rock Hill, SC | August 25, 2015.
92,143 | BNY Mellon Investment Servicing US Inc., Bank Of New York Mellon Corp., Aerotek, Inc., American Cybersystems, etc | Westborough, MA | August 25, 2015.
92,144 | Mitsui & Co. Precious Metals, Inc., Mitsui & Co., Ltd., The Madison-Davis Group, Inc | New York, NY | July 26, 2015.
92,146 | Commercial Vehicle Group, Inc., Global Construction, Agriculture and Military (GCAM) Division, etc | Monona, IA | August 23, 2015.
92,148 | Fox Factory, Inc., Fox Factory Holding Corporation, Staffmark | Watsonville, CA | August 11, 2015.
92,149 | Hertz Corporation, Hertz Administrative Center, Accountemps, Addison Group, Office Team, etc | Oklahoma City, OK | August 26, 2015.
92,151 | TaylorMade Golf Company, Inc., Adidas Group, Adecco Staffing | Carlsbad, CA | August 26, 2015.
92,154 | Benu Networks, Inc | Billerica, MA | August 29, 2015.
92,158 | IMMUNIO USA, Inc., Immun. IO Inc., Product Engineering Division, Different FEIN | Portland, OR | August 30, 2015.
92,161 | Maxim Integrated Products, Inc | San Jose, CA | August 30, 2015.
92,167 | Valmark Interface Solutions, NIDEC | Livermore, CA | March 14, 2016.
92,168 | ALW—Architectural Lighting Works | Hayward, CA | August 31, 2015.
92,169 | International Business Machines Corporation (IBM), 11400 Burnet Road, AIX Software Support Services Center, etc | Austin, TX | August 31, 2015.
92,169A | International Business Machines Corporation (IBM), 11501 Burnet Road, AIX Software Support Services Center, etc | Austin, TX | August 31, 2015.
92,169B | International Business Machines Corporation (IBM), AIX Software Support Services Center, Infrastructure Services Delivery, etc | Coppell, TX | August 31, 2015.
92,170 | QBE Americas, Inc., QBE Holdings, Inc | Overland Park, KS | August 31, 2015.
92,171 | Health Care Service Corporation, Operations Support Services Division, Small Group Service Operation, etc | Chicago, IL | August 31, 2015.
92,172 | John Deere Harvester Works, Deere & Company | East Moline, IL | August 31, 2015.
92,174 | Caterpillar Forest Products Prentice, Excavation Division, Caterpillar Inc., Bear Staffing, Manpower, and ATS | Prentice, WI | August 23, 2015.
92,175 | Dow Business Services, LLC, The Dow Chemical Company, Procure to Pay Organization, Kelly Services | Midland, MI | September 1, 2015.
92,176 | Delphi Automotive Systems, LLC, Delphi Holdings, LLC, Delphi Packard Electrical/Electronic, etc | Warren, OH | September 2, 2015.
92,178 | Micron Technology, Inc | Longmont, CO | December 4, 2015.
92,180 | Zodiac Seat Shells US LLC, C&D Zodiac, Volt Workforce Solutions, PlaneTechs, and Johnson Service Group | Santa Maria, CA | September 6, 2015.
92,185 | Ashley Furniture Industries, Inc., Ashley Holdings, Inc., Protech Staffing Services, Inc., etc | Colton, CA | September 7, 2015.
92,187 | Alcoa Fastening Systems and Rings, Alcoa, Aerotek | Fontana, CA | September 7, 2015.
92,189 | GE Energy Power Conversion US, Inc., General Electric Company, Kelly Services, Orion ICS, LLC, etc | Pittsburgh, PA | September 7, 2015.
92,192 | Magna Techform of America, Closures Group Division, Magna Closures Inc | Portland, TN | September 8, 2015.
92,201 | SMA America Production, LLC, SMA Solar Technology AG, The Employment Firm | Denver, CO | September 12, 2015.
92,202 | New York Life Insurance Company, Technology and Finance Division, AKT LLC; Case Interactive LLC, etc | Lebanon, NJ | August 15, 2015.
92,203 | Chanel, Inc., Division of Fragrance and Beaute, Staffmark | Piscataway Township, NJ | August 30, 2015.
92,204 | Sanofi US Services Inc., ITS Research and Development Division, Sanofi S.A., NewAgeSys, Inc | Bridgewater, NJ | August 30, 2015.
92,206 | Massachusetts Mutual Life Insurance Company, Technology Team Applications and Infrastructure, ADPI, Agile1, etc | Springfield, MA | September 13, 2015.
92,207 | International Business Machines Corporation (IBM), Statistical Package for the Social Science (SPSS), Analytics, etc | Rochester, MN | September 13, 2015.
92,208 | HUSCO International, Off-Highway Division | Waukesha, WI | September 14, 2015.
92,213 | Chubb & Sons, Division of Federal Insurance Co., Premium Accounting, etc | Warren, NJ | September 15, 2015.
92,214 | Quantum Spatial, Inc | Anchorage, AK | September 15, 2015.
92,214A | Quantum Spatial, Inc | Ann Arbor, MI | September 15, 2015.
92,214B | Quantum Spatial, Inc., Counsel on Call, Express Services, Adecco | Norcross, GA | September 15, 2015.
92,214C | Quantum Spatial, Inc | Colorado Springs, CO | September 15, 2015.
92,214D | Quantum Spatial, Inc | Corvallis, OR | September 15, 2015.
92,214E | Quantum Spatial, Inc | Dulles, VA | September 15, 2015.
92,214F | Quantum Spatial, Inc., Accountemps, Click LLC | Lexington, KY | September 15, 2015.
92,214G | Quantum Spatial, Inc | Maple Grove, MN | September 15, 2015.
92,214H | Quantum Spatial, Inc | Mission, KS | September 15, 2015.
92,214I | Quantum Spatial, Inc., Adecco, Propeller, Liquid Capital Exchange (Geosearch) | Portland, OR | September 15, 2015.
92,214J | Quantum Spatial, Inc., Technology Parkway Facility, Seek Careers | Sheboygan, WI | September 15, 2015.
92,214K | Quantum Spatial, Inc., Resource Drive Facility, Seek Careers | Sheboygan Falls, WI | September 15, 2015.
92,214L | Quantum Spatial, Inc., Adecco | St. Petersburg, FL | September 15, 2015.
92,215 | Epicor Software Corporation, Walter J. Dambkowski, Susan K. Ledbetter, Analytic View Consulting LLC, etc | Dublin, CA | September 15, 2015.
92,217 | Caterpillar Inc., Material Handling & Underground Division | Houston, PA | September 16, 2015.
92,218 | Nikon Americas, Inc., Nikon Corporation, WNS North America, Inc | Melville, NY | September 16, 2015.
92,219 | InFocus Corporation, Research and Development (R&D) and Manufacturing Divisions, Aerotek, etc | Portland, OR | September 16, 2015.
92,222 | Harman International Industries, Inc., Connected Car Division, Advantage Staffing, ACRO, Quality, Aerotek | Franklin, KY | September 16, 2015.
92,223 | Southern California Edison, Edison International, IT Department, @Business and Saker Systems | Rosemead, CA | May 3, 2016.
92,227 | Vertellus Specialties Inc | Indianapolis, IN | September 19, 2015.
92,228 | Hibu Inc., Hibu Holdings (USA), Inc., People Share, FirstPro, etc | Cedar Rapids, IA | August 9, 2016.
92,230 | Bruker Daltonics, Inc., Bruker Corporation, Advantage Technical Resourcing, AKLU, Bay Shore, etc | Billerica, MA | September 20, 2015.
92,234 | New York Life Insurance Company, Technology and Finance Divisions, Deemsys, Eclaro International, Momentum | New York, NY | August 21, 2015.
92,236 | MakerBot Industries LLC, Stratasys Ltd., Adecco USA | Brooklyn, NY | September 6, 2015.
92,237 | The Dow Chemical Company, IT Operations Group, Kelly Services | Midland, MI | September 21, 2015.
92,243 | Harman, Professional, Harman International, Inc., Humanix, Spherion | Cheney, WA | September 22, 2015.
92,243A | Harman, Professional, Harman International, Inc., Pro Resources Staffing Services | Elkhart, IN | September 22, 2015.
92,244 | Balance Systems, Inc., Amesbury Industries, Randstad, Mancan, Customer Driven, Staffmasters | Statesville, NC | September 23, 2015.
92,245 | Alstom Power Inc., Chattanooga Boilers, GE Power, Manpower, G4S | Chattanooga, TN | September 23, 2015.
92,247 | Regal Power Transmission Solutions, Regal Beloit Corporation | Monticello, IN | September 26, 2015.
92,248 | International Business Machines Corporation (IBM), Enterprise Automation Distributed Services (EADS), etc | Armonk, NY | September 27, 2015.
92,251 | Versum Materials US, LLC, Versum Materials, Inc., Air Products and Chemicals, (SP&C) Division | Allentown, PA | September 9, 2015.
92,259 | Xerox Business Services, Automation Analytics and Innovation Services/Innovation Automation, etc | Webster, NY | September 27, 2015.
92,259A | Xerox Business Services, Automation Analytics and Innovation Services/Innovation Automation, etc | Lexington, KY | September 27, 2015.
92,259B | Xerox Business Services, Automation Analytics and Innovation Services/Innovation Automation, etc | Sandy, UT | September 27, 2015.
92,259C | Xerox Business Services, Automation Analytics and Innovation Services/Innovation Automation, etc | Highlands Ranch, CO | September 27, 2015.
92,259D | Xerox Business Services, Automation Analytics and Innovation Services/Innovation Automation, etc | Utica, NY | September 27, 2015.
92,259E | Xerox Business Services, Automation Analytics and Innovation Services/Innovation Automation, etc | Long Beach, CA | September 27, 2015.
92,263 | Global Payments Inc., Owings Mills Center Division, Kinetix | Owings Mills, MD | September 26, 2015.
92,264 | Barnes & Noble, Inc., Monroe Distribution Center, Data Center Operations Department | Monroe Township, NJ | September 28, 2015.
92,265 | Fastek Products, Amesbury Industries, Aerotek and Express Employment Professionals | Canton, SD | September 29, 2015.
92,269 | ET Publishing International LLC, TVU Enterprise, Inc. and Alektis Consultores, S. DE. R.L | Virginia Gardens, FL | September 29, 2015.
92,271 | Thermo Fisher Scientific, Inc., Life Sciences Solutions Group, Finance Shared Services Group, Superior, etc | Grand Island, NY | September 30, 2015.
92,275 | Citizens Bank, NA, Citizens Financial Group, Infrastructure Services | Manchester, NH | October 1, 2015.
92,275A | Citizens Bank, NA, Citizens Financial Group, Infrastructure Services | Pittsburgh, PA | October 1, 2015.
92,275B | Citizens Bank, NA, Citizens Financial Group, Infrastructure Services | Holmes, PA | October 1, 2015.
92,275C | Citizens Bank, NA, Citizens Financial Group, Infrastructure Services | Plymouth Meeting, PA | October 1, 2015.
92,275D | Citizens Bank, NA, Citizens Financial Group, Infrastructure Services | Lancaster, PA | October 1, 2015.
92,275E | Citizens Bank, NA, Citizens Financial Group, Infrastructure Services | Norwood, MA | October 1, 2015.
92,275F | Citizens Bank, NA, Citizens Financial Group, Infrastructure Services | Medford, MA | October 1, 2015.
92,275G | Citizens Bank, NA, Citizens Financial Group, Infrastructure Services | Haddon Heights, NJ | October 1, 2015.
92,275H | Citizens Bank, NA, Citizens Financial Group, Infrastructure Services | Jersey City, NJ | October 1, 2015.
92,275I | Citizens Bank, NA, Citizens Financial Group, Infrastructure Services | New London, CT | October 1, 2015.
92,284 | NetApp, Inc., Customer Service Division | Wichita, KS | September 30, 2015.
92,285 | PacifiCorp, Pacific Power, IT Department, Berkshire Hathaway | Portland, OR | September 30, 2015.
92,287 | Selligent, Inc., Selligent Holdings Ltd., Development and Quality Assurance Divisions | Redwood City, CA | September 30, 2015.
92,291 | Inventiv Health, Accountemps (RHI), Aptara, Inc., C&G Consulting Services Inc., etc | Blue Bell, PA | October 3, 2015.
92,293 | Hewlett Packard, Inc., Imaging, Printing & Solutions Business Group, etc | Palo Alto, CA | October 4, 2015.
92,293A | Hewlett Packard, Inc., Imaging, Printing & Solutions Business Group, etc | San Diego, CA | October 4, 2015.
92,293B | Hewlett Packard, Inc., Imaging, Printing & Solutions Business Group, etc | Fort Collins, CO | October 4, 2015.
92,293C | Hewlett Packard, Inc., Imaging, Printing & Solutions Business Group, etc | Alpharetta, GA | October 4, 2015.
92,293D | Hewlett Packard, Inc., Imaging, Printing & Solutions Business Group, etc | Boise, ID | October 4, 2015.
92,293E | Hewlett Packard, Inc., Imaging, Printing & Solutions Business Group, etc | Rio Rancho, NM | October 4, 2015.
92,293F | Hewlett Packard, Inc., Imaging, Printing & Solutions Business Group, etc | New York, NY | October 4, 2015.
92,293G | Hewlett Packard, Inc., Imaging, Printing & Solutions Business Group, etc | Corvallis, OR | October 4, 2015.
92,293H | Hewlett Packard, Inc., Imaging, Printing & Solutions Business Group, etc | Plano, TX | October 4, 2015.
92,293I | Hewlett Packard, Inc., Imaging, Printing & Solutions Business Group, etc | Houston, TX | October 4, 2015.
92,293J | Hewlett Packard, Inc., Imaging, Printing & Solutions Business Group, etc | Austin, TX | October 4, 2015.
92,293K | Hewlett Packard, Inc., Imaging, Printing & Solutions Business Group, etc | Vancouver, WA | October 4, 2015.
92,293L | Hewlett Packard, Inc., Imaging, Printing & Solutions Business Group, etc | San Jose, CA | October 4, 2015.
92,293M | Hewlett Packard, Inc., Imaging, Printing & Solutions Business Group, etc | Aguadilla, PR | October 4, 2015.
92,301 | International Business Machines Corporation (IBM), GPS Business Office Support, Operations, Cross Services Shared, etc | Tulsa, OK | October 4, 2015.
92,302 | Air Systems Components, Inc., Johnson Controls International PLC, Express Employment Professionals | Ponca City, OK | October 31, 2016.
92,303 | Madison Paper Industries, UPM-Kymmene Inc. and Northern SC Paper, WD Matthews Machinery, etc | Madison, ME | October 4, 2015.
92,303A | Madison Paper Industries, UPM-Kymmene Inc. and Northern SC Paper, WD Matthews Machinery, etc | Madison, ME | December 10, 2016.
92,305 | Sulzer Chemtech USA, Inc., Sulzer US Holding Inc., Prime Industrial Recruiters, etc | Tulsa, OK | October 4, 2015.
92,308 | International Business Machines Corporation (IBM), GTS Storage Development, Service Planning Application Development, etc | Armonk, NY | October 6, 2015.
92,309 | Illinois Tool Works, Inc., ITW Ark-Les Business Unit, Randstad US, Resource Manufacturing, etc | New Berlin, WI | October 6, 2015.
92,314 | Cablevision of Litchfield, Altice USA | Shelton, CT | October 11, 2015.
92,317 | INVISTA S.A.R.L., Koch Industries, Inc., Swift Technical Group LLC and Mundy Company | Chattanooga, TN | October 10, 2015.
92,320 | Xerox, Customer Business Operations (CBO) Division, Xerox Technology | Rosemont, IL | October 12, 2015.
92,322 | Siemens Industry, Inc., Process Industries and Drives Division, Randstad USA | Spring House, PA | October 13, 2015.
92,325 | ConvaTec, Bright Services, Hire Alternatives, Prologistix, TRS Craft Services, Inc | Greensboro, NC | October 14, 2015.
92,330 | Shoes.com Technologies Inc | Seattle, WA | October 17, 2015.
92,332 | Topson Downs of California, Inc., Premier Personnel | Compton, CA | October 17, 2015.
92,333 | W.V.T., Inc., WKT Holdings (USA) Inc | Santa Ana, CA | October 17, 2015.
92,336 | Manhattan Beachwear, Inc., Select Staffing and Eastridge Staffing | Cypress, CA | October 18, 2015.
92,337 | Numatics Actuator, ASCO Numatics, Randstad, Express, and Staffmark | Mount Pleasant, TN | October 18, 2015.
92,344 | Logic PD | Montevideo, MN | October 19, 2015.
92,347 | Prestolite Electric Incorporated, Broad Ocean Motor, LLC, Adecco | Arcade, NY | October 20, 2015.
92,348 | Baxter Healthcare Corporation, Hospital Products, Aerotek, Delta-Pharma/Randstad, Hiregenics, etc | Englewood, CO | October 20, 2015.
92,353 | Backer EHP Inc., Fisher Manufacturing, AppleOne, and Volt Workforce Solutions | Huntington Beach, CA | July 1, 2016.
92,354 | Kionix, Inc., 36 Thornwood Drive, ROHM Co., Ltd., Stafkings | Ithaca, NY | August 22, 2015.
92,354A | Kionix, Inc., 22 Thornwood Drive, ROHM Co., Ltd., Stafkings | Ithaca, NY | August 22, 2015.
92,361 | Union Electric Akers, Akers National Roll, Ampco-Pittsburgh Corporation/Union Electric Akers | Avonmore, PA | October 24, 2015.
92,363 | ElectroCraft Arkansas, Inc., ElectroCraft, Inc., Staffmark | Searcy, AR | October 25, 2015.
92,367 | Bridgeville Glass Plant, GE Lighting, LLC, GE Lighting, Inc., CareHere | Bridgeville, PA | October 26, 2015.
92,373 | Numatics, Inc., Emerson Electric Company, TechniPower National Staffing Solutions, etc | Phoenix, AZ | October 27, 2015.
92,379 | Legend Pictures, LLC, Dalian Wanda Group | Burbank, CA | October 28, 2015.
92,385 | ICON Aircraft, Inc., Johnson Service Group, Talentscale | Vacaville, CA | October 4, 2015.
92,387 | Xcerra Corporation | Milpitas, CA | September 30, 2015.
92,392 | UBS Financial Services, Inc., WMA Investment Advisory, UBS Americas, Inc., Cognizant | Weehawken, NJ | November 3, 2015.
92,395 | Medtronic, Medtronic, Patient Monitoring and Recovery (PMR) Division, Covidien, etc | Costa Mesa, CA | December 24, 2016.
92,403 | Convergys Customer Management Group, Directv Customer Service Support, Covergys Corporation | Tamarac, FL | November 3, 2015.
92,405 | PTC Inc., Product Development Group | Blaine, MN | November 8, 2015.
92,411 | Tronc, Inc., Technology Division, Apex Systems, Bitwise, Globant, Infosys, iSpace, etc | Chicago, IL | November 9, 2015.
92,414 | Baxalta US Inc., FNA Baxter International, Baxalta Inc., Hiregenics, Delta-Pharma, etc | Thousand Oaks, CA | November 14, 2015.
92,417 | Motorola Mobility LLC, Lenovo Group LTD | Bedminster, NJ | November 10, 2015.
92,442 | Balboa Water Group, LLC, Staffmark and Exact Staff | Valencia, CA | November 21, 2015.
92,447 | Sypris Technologies, Sypris Solutions | Louisville, KY | November 24, 2015.
92,470 | Seat King LLC | Hutchinson, KS | December 7, 2015.
92,476 | Swisher International, Inc | Jacksonville, FL | December 3, 2016.

The following certifications have been issued. The requirements of Section 222(b) (supplier to a firm whose workers are certified eligible to apply for TAA) of the Trade Act have been met.

TA-W No. | Subject firm | Location | Impact date
85,956 | Cameron International Corporation, Measurement Division | Duncan, OK | April 23, 2014.
91,629 | Royal Oak Industries, Inc., Corporate Office | Bloomfield Hills, MI | March 21, 2015.
91,629A | Royal Oak Boring, Royal Oak Industries, Inc | Port Huron, MI | March 21, 2015.
91,629B | Bronson Precision Products, Royal Oak Industries, Inc | Bronson, MI | March 21, 2015.
91,699 | Hexcel Corporation, Keltia Recruitment Inc./Keltia Design Inc., Kelly Services Inc., etc | Kent, WA | April 12, 2015.
92,016 | EBC Industries, Doncasters Group | Erie, PA | July 14, 2015.
92,111 | Hodge Foundry, Inc | Greenville, PA. | August 15, 2015.
92,177 | Berry Plastics Corporation, Berry Plastics Group, Inc., Infinity Resources | Dunkirk, NY | September 6, 2015.
92,188 | TMS International | Granite City, IL | September 7, 2015.
92,235 | Magnetation LLC, Pellet Plant, Manpower, Accountemps | Reynolds, IN | September 6, 2015.
92,238 | Specialty Minerals, Inc., Mineral Technologies Inc | Wickliffe, KY | September 21, 2015.
92,258 | ATI Titanium LLC, ATI Primary Titanium Operations, Allegheny Technologies Incorporated, etc | Skull Valley, UT | September 27, 2015.
92,313 | Ellwood National Crankshaft, Ellwood Group, Inc., Ellwood Crankshaft Group | Irvine, PA | October 11, 2015.
92,378 | RAM Industrial Services, LLC, Erie Division, Industrial Service Solutions, Miller Brother Staffing | Erie, PA | October 28, 2015.
92,393 | Acro Industries, Inc | Rochester, NY | November 7, 2015.

The following certifications have been issued. The requirements of Section 222(b) (downstream producer for a firm whose workers are certified eligible to apply for TAA) of the Trade Act have been met.

TA-W No. | Subject firm | Location | Impact date
91,903 | Treeline, Inc | Chester, ME | June 9, 2015.
92,079 | Fairfield Southern Company, Transtar, Inc | Fairfield, AL | August 1, 2015.
92,165 | Lufkin Industries LLC, Gear Repair Division, GE Oil & Gas | Cullman, AL | August 31, 2015.

Negative Determinations For Worker Adjustment Assistance

In the following cases, the investigation revealed that the eligibility criteria for worker adjustment assistance have not been met for the reasons specified.

The investigation revealed that the criterion under paragraph (a)(1), or (b)(1) (employment decline or threat of separation) of section 222 has not been met.

TA-W No. | Subject firm | Location | Impact date
91,301 | XPO Logistics Freight, Inc., FKA Con-Way Freight, Division of Customer Service Representatives, Randstad | Aliquippa, PA
91,760 | Aviara Residence Club Owners Association, Finance, Aviara Residential Employment Inc., Maintenance Masters, etc | Carlsbad, CA
92,024 | TEKsystems, Inc., Jacobs Engineering Group, Inc., Enterprise Services Team | Pasadena, CA
92,114 | HERE North America, LLC, HERE Holding Corporation, Data Collection Unit | Roseville, MN
92,114A | HERE North America, LLC, HERE Holding Corporation, Quality Unit | Roseville, MN
92,114B | HERE North America, LLC, HERE Holding Corporation, Information Technology (IT) Unit | Roseville, MN
92,163 | Acosta Sales & Marketing | Marlborough, MA
92,319 | SST Truck Company, LLC, Navistar, Inc. Company, Truck Specialty Center, 3737 Grader Street | Garland, TX
92,319A | SST Truck Company, LLC, Navistar, Inc. Company, Truck Assembly Plant, 4030 Forrest Lane | Garland, TX
92,319B | Navistar, Inc., Environmental Affairs | Lisle, IL
92,383 | International Business Machines Corporation (IBM), HNZA Division, Integrated Service Management, etc | Tampa, FL
92,445 | Knight Dental, Knight Dental Group | Selden, NY

The investigation revealed that the criteria under paragraphs (a)(2)(A)(i) (decline in sales or production, or both) and (a)(2)(B) (shift in production or services to a foreign country) of section 222 have not been met.

TA-W No. | Subject firm | Location | Impact date
90,300 | Conduit Global, Inc., kgb, kgb USA, Inc | Cordova, TN
91,094 | Apex Engineering International, LLC, HM Dunn AeroSystems, Inc., Engineering Solutions Services, etc | Wichita, KS
92,056 | Celestica, Inc., Adecco | Ontario, CA

The investigation revealed that the criteria under paragraphs(a)(2)(A) (increased imports) and (a)(2)(B) (shift in production or services to a foreign country) of section 222 have not been met.

TA-W No. | Subject firm | Location | Impact date
90,228 | Allergan Medical, Device Division, Allergan PLC, Adecco | Goleta, CA
90,266 | Jacques Ebert Associates | Glen Cove, NY
90,271 | BNSF Railway Company, Twin Cities Division, Burlington Northern Santa Fe, LLC | Dilworth, MN
90,336 | Citicorp Credit Services, Inc. (USA), Transaction Services, Citibank, N.A. Axelon Services Corporation, etc | Urbandale, IA
91,087 | Cameron, Schlumberger Technology Corporation, Drilling Systems Division | Houston, TX
91,147 | Mayhem Manufacturing LLC | Tulsa, OK
91,155 | Apache Corporation | Tulsa, OK
91,222 | Meggitt Aircraft Braking Systems Corporation, Meggitt PLC, Kelly Services and CEI Corp | Akron, OH
91,238 | Somerset Regional Water Resources LLC | Somerset, PA
91,329 | Irathane Systems, Inc., Iracore Holdings Corp., Iracore International, LLC | Hibbing, MN
91,329A | Industrial Rubber Applicators, Inc., Iracore Holdings Corp., Iracore International, LLC | Hibbing, MN
91,329B | Iracore International-Minnesota, Inc., Iracore Holdings Corp., Iracore International, LLC | Hibbing, MN
91,365 | CNH Industrial America LLC, Grand Island Plant | Grand Island, NE
91,369 | Noramco Engineering Corporation, Express Employment | Hibbing, MN
91,411 | Parker Hannifin Corporation, Gas Separation Filtration (GSF) Division, Entech Staffing | Oxford, MI
91,480 | Wells Fargo Home Mortgage, Wells Fargo Consumer Lending Group, Aerotek and Robert Half International | Portland, OR
91,537 | Boone Hospital Center | Columbia, MO
91,552 | Double Press Manufacturing, Inc | Madras, OR
91,569 | Vigo Coal Operating Company, LLC, Friendsville Mine, Custom Staffing | Mount Carmel, IL
91,569A | Vigo Coal Operating Company, LLC, Liberty Mine, Custom Staffing | Boonville, IN
91,569B | Vigo Coal Operating Company, LLC, Vigo Corporate Office | Evansville, IN
91,621 | Au'Some Company, LLC | Sumter, SC
91,627 | Grand Rapids Plastics, Gill Staffing and Apply With Us, LLC | Grand Rapids, MI
91,640 | NCS Pearson, Inc., AppleOne Employment Services, OfficeTeam, Aerotek, Express, etc | Bloomington, MN
91,660 | Firstsource Group USA, Inc | Eugene, OR
91,660A | Firstsource Group USA, Inc | Louisville, KY
91,673 | Climax Manufacturing Inc | Lowville, NY
91,687 | D&L Manufacturing Inc | Tulsa, OK
91,736 | The Timken Company, Adecco | Altavista, VA
91,792 | Vindex Energy Corporation, Hunter Ridge, Inc., Act Personnel Service Inc | Mountain Lake Park, MD
91,797 | Toshiba America Information Systems, Inc., Personal Computer, Toshiba America Inc | Irvine, CA
91,835 | Public Service Company of Colorado, Xcel Energy, Xcel Energy, Inc., Design and Drafting Engineers Division | Denver, CO
91,843 | Magellan Aerospace Bethel, Inc., d/b/a Ambel Precision Manufacturing, Magellan Aerospace Corporation | Bethel, CT
91,861 | Donald L Shirey Lumber Co., Inc | New Bethlehem, PA
91,862 | Union Pacific Railroad Company, Division of Train, Engine, and Yard Employees | North Platte, NE
91,862A | Union Pacific Railroad Company, Division of Train, Engine, and Yard Employees | Cheyenne, WY
91,876 | Cleaver-Brooks, Inc., Engineered Boiler Systems, Celebrity Staffing, LaborMAX Staffing | Lincoln, NE
91,938 | Sterling Heights Assembly Plant (SHAP), FCA North America Holdings LLC | Sterling Heights, MI
91,947 | Jennmar of Pennsylvania, LLC, Frank Calandra, Inc | Cresson, PA
91,957 | Joy Global Inc., Joy Global Underground Mining, LLC | Eighty Four, PA
91,970 | ATOS IT Solutions and Services, Inc., NSC Global | Mountain Lakes, NJ
91,977 | TE Connectivity, AeroSpace, Defense and Marine Division | Middletown, PA
91,995 | The Boeing Company, Boeing Test and Evaluation (BT&E), Flight Test Group, etc | St. Louis, MO
91,998 | Kasper Group LLC, Production, Kasper U.S. Blocker LLC | New York, NY
91,998A | Kasper Group LLC, Design, Kasper U.S. Blocker LLC | New York, NY
92,025 | Consolidated Metco, Inc., Aerotek | Clackamas, OR
92,029 | Control Devices, LLC, Including Workers with Wages Reported Under a Different FEIN | Fairview, PA
92,055 | Bristol Compressors International, LLC | Bristol, VA
92,058 | EVRAZ Oregon Steel, EVRAZ Oregon Steel Tubular Division, EVRAZ Inc. NA, etc | Portland, OR
92,068 | Electralloy, G.O. Carlson, Inc., G.O. Carlson, Inc | Oil City, PA
92,080 | Xerox Commercial Solutions, LLC, Customer Care Division, Xerox Business Services, LLC | Redmond, WA
92,096 | A-1 Staffing, Inc., ADP Total Source | Livonia, MI
92,134 | Pacific Crest Transformers, Inc., ADP TotalSource, Personnel Source, Express Employment Professionals | White City, OR
92,152 | Dura Automotive Systems, Furst Staffing, ManPower Group | Stockton, IL
92,164 | Triad Mining, LLC, Blackhawk Mining, LLC | Oakland City, IN
92,166 | John William Siegel, DBA American Medical Design | Atascadero, CA
92,181 | Carpenter Company, Adecco USA, Inc | Lathrop, CA
92,186 | BHP Billiton, Limited, BHP Billiton PLC | Houston, TX
92,190 | VTI of Indiana Doors, Inc., VT Industries, Inc., Advantage Staffing | New Albany, IN
92,194 | Marine Spill Response Corporation, Maine Responder | Portland, ME
92,197 | Kohler Company, Shower Doors Division, SMX Staffing, Job World Staffing | Union City, TN
92,262 | American Made, LLC, U.S. Liner, Maintenance Department | Harmony, PA
92,321 | Geneva Nitrogen LLC | Vineyard, UT
92,327 | Welch Allyn Inc., Hill-Rom | Beaverton, OR

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
91,138 | GrafTech International Holdings Inc., Engineered Solutions Division, Brookfield Asset Management Inc | Anmoore, WV
91,275 | TTM Technologies, INC., ViaSystems, Randstand | Milpitas, CA
91,275A | TTM Technologies, INC., ViaSystems, Randstand | Cuyahoga Falls, OH
91,841 | Hancock Fabrics | Baldwyn, MS
91,926 | MetalTek International, Southern Centrifugal Division | Chattanooga, TN
92,129 | MAPE USA, Inc | Cambridge, MN
92,220 | LexisNexis | Miamisburg, OH
92,268 | Populus Group, Caterpillar, Inc | Troy, MI
92,289 | Prestolite Electric Incorporated | Arcade, NY
92,312 | ASCO, Emerson | Novi, MI
92,349 | Sanjel USA | Fort Lupton, CO
92,349A | Sanjel USA | Denver, CO
92,355 | Great Lakes Towers LLC, dba Ventower Industries, Manpower Staffing, Advance Staffing, etc | Monroe, MI
92,371 | ADP, Inc., Payroll Service Department | Rochester, NY
92,389 | Hiperwall, Inc | Irvine, CA
92,396 | Tek-Motive, Inc | East Haven, CT
92,462 | Parker-Hannifin Corporation | Anaheim, CA

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
91,788 | Cyrus Hosiery Inc | Vernon, CA
92,028 | Alcatel-Lucent Enterprise (ALE) | New Providence, NJ
92,209 | Dental Invisions, Inc | Delray Beach, FL
92,288 | VAM USA | Youngstown, OH
92,390 | Prairie Mountain Publishing | Boulder, CO

The following determinations terminating investigations were issued because the petitioning groups of workers are covered by active certifications. Consequently, further investigation in these cases would serve no purpose since the petitioning group of workers cannot be covered by more than one certification at a time.

TA-W No. | Subject firm | Location | Impact date
91,347 | Eurest Services, Inc | Lake Orion, MI
91,351 | Team Industrial Services, Inc. dba Team Solutions, General Motors Lake Orion Assembly | Lake Orion, MI
91,630 | Royal Oak Boring, Royal Oak Industries, Inc | Port Huron, MI
91,631 | Bronson Precision Products, Royal Oak Industries, Inc | Bronson, MI
91,770 | US Synthetic Corporation | Orem, UT
92,053 | McDonald's Corporation, Global Shared Services—Finance & Accounting Division | Oak Brook, IL
92,092 | Abbott Laboratories, Abbott Vascular, TapFin | Temecula, CA
92,105 | Randstad Sourceright | Alpharetta, GA
92,159 | Huntington Alloys Corporation, Special Metals Division, Special Metals Corporation | Burnaugh, KY
92,205 | CTS Corporation, Specialized Staffing, Manpower, Aerotek, Personnel Partners, etc | Elkhart, IN
92,340 | CompuCom Systems, Inc., Dallas Service Center | Plano, TX
92,360 | Hubbell Lighting, Inc | Saint Louis, MO
92,372 | Versum Materials US, LLC, Versum Materials, Inc., Air Products and Chemicals, Inc., etc | Allentown, PA
92,376 | Transcend Services, Inc., Nuance Communications, Inc | Burlington, MA
92,380 | International Business Machines Corporation (IBM), GTS Storage Development, Service Planning Application Development, etc | Armonk, NY
92,406 | Spirit Aerosystems, Inc., Spirit AeroSystems Holdings, Inc., Zero Chaos | Tulsa, OK

The following determinations terminating investigations were issued because the petitions are the subject of ongoing investigations under petitions filed earlier covering the same petitioners.

TA-W No. | Subject firm | Location | Impact date
91,652 | Mary's River Lumber Company | Corvallis, OR
91,786 | Irathane Systems, Industrial Rubber Applicators | Hibbing, MN
92,138 | Hewlett Packard, Inc | San Diego, CA
92,231 | Daimler Trucks North America | Mt. Holly, NC
92,272 | RBS Citizens Bank National Association, Citizens Bank | Cranston, RI
92,273 | RBS Citizens Bank National Association, Citizens Bank | New London, CT
92,274 | RBS Citizens Bank National Association, Citizens Bank | Lancaster, PA
92,276 | RBS Citizens Bank National Association, Citizens Bank | Medford, MA
92,277 | RBS Citizens Bank National Association, Citizens Bank | Jersey City, NJ
92,278 | RBS Citizens Bank National Association, Citizens Bank | Haddon Heights, NJ
92,279 | RBS Citizens Bank National Association, Citizens Bank | Norwood, MA
92,280 | RBS Citizens Bank National Association, Citizens Bank | Plymouth Meeting, PA
92,281 | RBS Citizens Bank National Association, Citizens Bank | Holmes, PA
92,282 | RBS Citizens Bank National Association, Citizens Bank | Pittsburgh, PA
92,283 | RBS Citizens Bank National Association, Citizens Bank | Pittsburgh, PA
92,294 | Hewlett Packard, Inc | San Deigo, CA
92,295 | Hewlett Packard, Inc., San Diego Product Development | San Diego, CA
92,315 | Hewlett Packard, Inc., San Diego Product Development | San Diego, CA
92,366 | G.E. Mining | Glen Lyn, VA
92,386 | MGM Industrial Supply Company, Incorporated | Ironton, OH
92,399 | ATI Primary Titanium Operations, Allegheny Technologies Incorporated | North Skull Valley, UT
92,407 | Hewlett Packard, Inc | Boise, ID
92,412 | Brillion Iron Works, Metaldyne Performance Group (MPG) | Brillion, WI
92,439 | UTC Aerospace Systems, United Technologies Corporation | Cleveland, OH
92,472 | General Motors Subsystems, LLC, Logistics Optimization Center | Lansing, MI

The following determinations terminating investigations were issued because the Department issued a negative determination on petitions related to the relevant investigation period applicable to the same worker group. The duplicative petitions did not present new information or a change in circumstances that would result in a reversal of the Department's previous negative determination, and therefore, further investigation would duplicate efforts and serve no purpose.

TA-W No. | Subject firm | Location | Impact date
92,456 | EVRAZ Oregon Steel Mill | Portland, OR

I hereby certify that the aforementioned determinations were issued during the period of September 19, 2016 through December 16, 2016. These determinations are available on the Department's Web site https://www.doleta.gov/tradeact/taa/taa_search_form.cfm under the searchable listing determinations or by calling the Office of Trade Adjustment Assistance toll free at 888-365-6822.

Signed at Washington, DC, this 19th day of December 2016.
Del-Min Amy Chen,
Certifying Officer, Office of Trade Adjustment Assistance.

[FR Doc. 2016-31899 Filed 1-3-17; 8:45 am]

BILLING CODE 4510-FN-P